DEPARTMENT OF THE INTERIOR

National Park Service

[N6950; NPS-WASO-NAGPRA-NPS0042088; PPWOCRADN0-PCU00RP14.R50000]

Notice of Intended Repatriation: Ohio History Connection, Columbus, OH

AGENCY: National Park Service, Interior.

ACTION: Notice.

SUMMARY: In accordance with the Native American Graves Protection and Repatriation Act (NAGPRA), the Ohio History Connection intends to repatriate a certain cultural item that meets the definition of a sacred object and that has a cultural affiliation with the Native Hawaiian organization in this notice.

DATES: Repatriation of the cultural items in this notice may occur on or after April 1, 2026.

ADDRESSES: Send additional, written requests for repatriation of the cultural items in this notice to Stephanie Kline, Ohio History Connection, 800 E 17th Avenue, Columbus, OH 43211, email nagpra@ohiohistory.org.

SUPPLEMENTARY INFORMATION: This notice is published as part of the National Park Service's administrative responsibilities under NAGPRA. The determinations in this notice are the sole responsibility of the Ohio History Connection, and additional information on the determinations in this notice, including the results of consultation, can be found in the summary or related records. The National Park Service is not responsible for the determinations in this notice.

Abstract of Information Available

A total of one cultural item has been requested for repatriation. The one sacred object is a pololū (previously identified as an ihe [spear]). This pololū was donated to Ohio

Historical Society (now Ohio History Connection) by Elizabeth R. (Mrs. George) Ocshier on August 2, 1978. According to Mrs. Ocshier, her grandfather, Henry Hiram Ellis, received this item from the Royal Governor of Kaua'i, Paul Puhuila Kanoa, when visiting Hawai`i in 1890. Records suggest that this item was removed from Ni`ihau, Kaua`i County, Hawai`i. A varnish may have been applied to the the pololū on an unknown date. Additionally, possible plaster and/or bird droppings and paper adhere to the surface of the item.

Determinations

The Ohio History Connection has determined that:

• The one sacred object described in this notice is a specific ceremonial object needed by a traditional Native American religious leader for present-day adherents to practice traditional Native American religion, according to the Native American traditional knowledge of a lineal descendant, Indian Tribe, or Native Hawaiian organization.

• There is a reasonable connection between the cultural items described in this notice and the Hui Iwi Kuamo`o.

Requests for Repatriation

Additional, written requests for repatriation of the cultural items in this notice must be sent to the authorized representative identified in this notice under ADDRESSES. Requests for repatriation may be submitted by any lineal descendant or Native Hawaiian organization not identified in this notice who shows, by a preponderance of the evidence, that the requestor is a lineal descendant or a culturally affiliated Native Hawaiian organization.

Repatriation of the cultural items in this notice to a requestor may occur on or after April 1, 2026. If competing requests for repatriation are received, the Ohio History Connection must determine the most appropriate requestor prior to repatriation. Requests for joint repatriation of the cultural items are considered a single request and not competing requests. The Ohio History Connection is responsible for sending a copy of this notice to the Indian Tribes and Native Hawaiian organizations identified in this notice and to any other consulting parties.

Authority: Native American Graves Protection and Repatriation Act, 25 U.S.C. 3004 and the implementing regulations, 43 CFR 10.9.

Dated: February 20, 2026.
Melanie O'Brien,
Manager, National NAGPRA Program.

[FR Doc. 2026-04039 Filed 2-27-26; 8:45 am]

BILLING CODE 4312-52-P